DEPARTMENT OF HEALTH AND HUMAN SERVICES

National Institutes of Health

National Center for Advancing Translational Sciences; Amended Notice of Meeting

Notice is hereby given of a change in the meeting of the Cures Acceleration Network Review Board, September 19, 2019, 11:00 a.m. to 4:30 p.m., PORTER NEUROSCIENCE RESEARCH CENTER, Building 35A, 35 Convent Drive, Bethesda, MD 20892 which was published in the Federal Register on June 27, 2019, 84 FR 30744 Pg. 30744.

This meeting notice is amended to change the start time from 11:00 a.m. to 10:00 a.m. The meeting is open to the public.

Dated: August 27, 2019.
Melanie J. Pantoja,
Program Analyst, Office of Federal Advisory Committee Policy.

[FR Doc. 2019-18895 Filed 8-30-19; 8:45 am]

BILLING CODE 4140-01-P